DEPARTMENT OF COMMERCE

International Trade Administration

[A-570-601]

Tapered Roller Bearings and Parts Thereof, Finished and Unfinished, From the People's Republic of China: Initiation of Antidumping Duty New Shipper Reviews

AGENCY: Enforcement and Compliance, International Trade Administration, Department of Commerce.

SUMMARY: The Department of Commerce (Department) has received requests from Shandong Bolong Bearing Co., Ltd. (Bolong) and Zhejiang Changxing CTL Auto Parts Manufacturing Co., Ltd. (Changxing) for new shipper reviews (NSRs) of the antidumping duty order on tapered roller bearings and parts thereof, finished and unfinished (TRBs), from the People's Republic of China (PRC). We have determined that these requests meet the statutory and regulatory requirements for initiation. The period of review (POR) for these NSRs is June 1, 2014, through May 31, 2015.

DATES: Effective date: August 3, 2015.

FOR FURTHER INFORMATION CONTACT: Shannon Morrison or Blaine Wiltse, Enforcement and Compliance, International Trade Administration, U.S. Department of Commerce, 14th Street and Constitution Avenue NW., Washington, DC 20230; telephone: (202) 482-6274 or (202) 482-6345, respectively.

SUPPLEMENTARY INFORMATION:

Background

On June 15, 1987, the Department published in the Federal Register the antidumping duty order on TRBs from the PRC.¹ Pursuant to section 751(a)(2)(B)(i) of the Tariff Act of 1930, as amended (the Act), the Department received two properly-filed requests for NSRs from Bolong and Changxing ² during the anniversary month of the antidumping duty order.

¹ See Antidumping Duty Order; Tapered Roller Bearings and Parts Thereof, Finished or Unfinished, From the People's Republic of China, 52 FR 22667 (June 15, 1987).

² See Bolong's June 18, 2015, submission (Bolong NSR Request); and Changxing's June 23, 2015, submission (Changxing NSR Request).

In their requests, Bolong and Changxing certified that they both are producers and exporters of TRBs from the PRC. Pursuant to section 751(a)(2)(B)(i)(I) of the Act and 19 CFR 351.214(b)(2)(i), these companies also certified that they did not export TRBs to the United States during the period of investigation (POI).³ In addition, pursuant to section 751(a)(2)(B)(i)(II) of the Act and 19 CFR 351.214(b)(2)(iii)(A), Bolong and Changxing certified that, since the initiation of the investigation, they have never been affiliated with any PRC exporter or producer who exported TRBs to the United States during the POI, including those respondents not individually examined during the investigation.⁴ As required by 19 CFR 351.214(b)(2)(iii)(B), Bolong and Changxing certified that their export activities were not controlled by the government of the PRC.⁵

³ See Changxing NSR Request, at Exhibit 1; and Bolong NSR Request, at Exhibit 1.

⁴ Id.

⁵ Id.

In addition to the certifications described above, pursuant to 19 CFR 351.214(b)(2)(iv), each company submitted documentation establishing the following: (1) The date on which it first shipped TRBs for export to the United States and the date on which the TRBs were first entered; (2) the volume of its first shipment; and (3) the date of its first sale to an unaffiliated customer in the United States.⁶

⁶ See Changxing NSR Request, at Exhibit 2; and Bolong NSR Request, at Exhibit 2.

The Department conducted U.S. Customs and Border Protection (CBP) database queries to confirm that Bolong's and Changxing's shipments of subject merchandise had entered the United States for consumption and that liquidation of these entries had been properly suspended for antidumping duties. The Department also examined whether the CBP data confirmed that these entries were made during the POR. The information the Department examined was consistent with that provided by Bolong and Changxing. After the initiation of the NSRs, the Department intends to place additional CBP data on the record and, if necessary, request additional information from Bolong and/or Changxing.

Period of Review

In accordance with 19 CFR 351.214(g)(1)(i)(A), the POR for an NSR initiated in the month immediately following the anniversary month will be the twelve-month period immediately preceding the anniversary month. Therefore, the POR is June 1, 2014, through May 31, 2015. Based on the information provided by Bolong and Changxing, the sales and entries into the United States of subject merchandise produced and exported by these companies occurred during this twelve-month POR.

Initiation of New Shipper Reviews

Pursuant to section 751(a)(2)(B) of the Act, 19 CFR 351.214(b), 19 CFR 351.214(d)(1), and after reviewing the information on the record, the Department finds that the requests from Bolong and Changxing meet the threshold requirements for initiation of NSRs for shipments of TRBs from the PRC produced and exported by each company.⁷ If the information supplied by Bolong or Changxing cannot be verified using CBP import data, or is otherwise found to be incorrect or insufficient during the course of this proceeding, the Department may rescind the review for that company or apply facts available pursuant to section 776 of the Act, depending on the facts on record.

⁷ See Memorandum to the File from Stephen A. Banea, International Trade Compliance Analyst, Office II, AD/CVD Operations, entitled “Tapered Roller Bearings and Parts Thereof, Finished and Unfinished, from the People's Republic of China: Initiation of New Shipper Review of Changxing,” dated concurrently with this notice; and Memorandum to the File from Shannon Morrison, International Trade Compliance Analyst, Office II, AD/CVD Operations, entitled “Tapered Roller Bearings and Parts Thereof, Finished and Unfinished, from the People's Republic of China: Initiation of New Shipper Review of Bolong,” dated concurrently with this notice.

The Department intends to issue the preliminary results of these NSRs no later than 180 days from the date of initiation, and the final results within 90 days after the date on which the preliminary results are issued, pursuant to section 751(a)(2)(B)(iv) of the Act.

It is the Department's usual practice, in cases involving non-market economy countries, to require that a company seeking to establish eligibility for an antidumping duty rate separate from the country-wide rate provide evidence of de jure and de facto absence of government control over the company's export activities. Accordingly, we will issue questionnaires to Bolong and Changxing, which will include a section requesting information concerning their eligibility for separate rates. The reviews will proceed if the responses provide sufficient indication that Bolong and Changxing are not subject to either de jure or de facto government control with respect to their exports of subject merchandise.

We will instruct CBP to allow, at the option of the importer, the posting, until the completion of these reviews, of a bond or security in lieu of a cash deposit for each entry of the subject merchandise from Bolong or Changxing in accordance with section 751(a)(2)(B)(iii) of the Act and 19 CFR 351.214(e). Because each of these companies certified that it both produced and exported the subject merchandise, the sale of which is the basis of the NSR request, we will instruct CBP to permit the use of a bond only for subject merchandise which each new shipper applicant both produced and exported.

To assist in its analysis of the bona fides of Bolong's and Changxing's sales, upon initiation of these NSRs, the Department will require each company to submit on an ongoing basis complete transaction information concerning any sales of subject merchandise to the United States that were made subsequent to the POR.

Interested parties requiring access to proprietary information in these NSRs should submit applications for disclosure under administrative protective order in accordance with 19 CFR 351.305 and 351.306. This initiation and notice are published in accordance with section 751(a)(2)(B) of the Act and 19 CFR 351.214 and 351.221(c)(1)(i).

Dated: July 28, 2015.
Christian Marsh,
Deputy Assistant Secretary for Antidumping and Countervailing Duty Operations.

[FR Doc. 2015-18979 Filed 7-31-15; 8:45 am]

BILLING CODE 3510-DS-P